COMMISSION ON CIVIL RIGHTS

Notice of Public Meeting of the Connecticut Advisory Committee

AGENCY: Commission on Civil Rights.

ACTION: Announcement of meeting.

SUMMARY: Notice is hereby given, pursuant to the provisions of the rules and regulations of the U.S. Commission on Civil Rights (Commission), and the Federal Advisory Committee Act (FACA), that the Connecticut Advisory Committee to the U.S. Commission on Civil Commission will hold a briefing via web conference at 12:00 p.m. (EDT) on Monday, July 20, 2020. The purpose of the briefing will be to hear from presenters about COVID-19 in nursing homes in Connecticut and to review and vote on a statement on police reform.

DATES: Monday, July 20, 2020; 12:00 p.m. (EDT).

Public Call-In Information (audio only): Conference call-in number: 1-800-353-6461 and conference ID: 9640368.

Web Access Information (visual only): The online portion of the meeting may be accessed through the following link: https://cc.readytalk.com/r/tzr2a26466pb&eom.

FOR FURTHER INFORMATION CONTACT: Barbara Delaviez at ero@usccr.gov or by phone at 202-539-8246.

SUPPLEMENTARY INFORMATION: Interested members of the public may listen to the discussion by calling the following toll-free conference call-in number: 1-800-353-6461 and conference ID: 9640368. If you want to see the presenters and follow any visuals they may share, you may join the visual portion of the briefing using the link provided above. Please be advised that before placing them into the conference call, the conference call operator will ask callers to provide their names, their organizational affiliations (if any), and email addresses (so that callers may be notified of future meetings). Callers can expect to incur charges for calls they initiate over wireless lines, and the Commission will not refund any incurred charges. Callers will incur no charge for calls they initiate over land-line connections to the toll-free conference call-in number.

Persons with hearing impairments may also follow the discussion by first calling the Federal Relay Service at 1-800-977-8339 and providing the operator with the toll-free conference call-in number: 1-800-353-6461 and conference ID: 9640368.

Members of the public are invited to make statements during the open comment period of the meeting or submit written comments. The comments must be received in the regional office approximately 30 days after each scheduled meeting. Written comments may be emailed to Barbara Delaviez at ero@usccr.gov. Persons who desire additional information may contact Regional Programs Unit at (312) 353-8311.

Records and documents discussed during the meeting will be available for public viewing as they become available at: https://gsageo.force.com/FACA/FACAPublicViewCommitteeDetails?id=a10t0000001gzlqAAA; click the “Meeting Details” and “Documents” links. Records generated from this meeting may also be inspected and reproduced at the Eastern Regional Office, as they become available, both before and after the meetings. Persons interested in the work of this advisory committee are advised to go to the Commission's website, www.usccr.gov, or to contact the Regional Programs Unit at the above phone numbers or email address.

Agenda

Monday, July 20, 2020 at 12:00 p.m. (EDT)

• Roll Call

• Welcome and Introductions

• Briefing: COVID-19 in Nursing Homes in Connecticut

• Review and Vote on Statement on Police Reform

• Open Comment

• Other Business

• Next Steps

• Adjournment

Dated: July 8, 2020.
David Mussatt,
Supervisory Chief, Regional Programs Unit.

[FR Doc. 2020-15060 Filed 7-15-20; 8:45 am]

BILLING CODE 6335-01-P